TENNESSEE VALLEY AUTHORITY

Sunshine Act Meeting

AGENCY HOLDING THE MEETING: Tennessee Valley Authority (Meeting No. 1521).

TIME AND DATE: 9 a.m. (EDT), July 19, 2000.

PLACE: TVA Knoxville West Tower Auditorium, 400 West Summit Hill Drive, Knoxville, Tennessee.

Status: Open.

Agenda

Approval of minutes of meeting held on June 21, 2000.

New Business

C—Energy

C1. Award of contracts to General Electric Company and TurboCare for the engineering, manufacturing, and supply of steam turbine blades to support TVA's fleet of steam turbine rotors.

E—Real Property Transactions

E1. Sale of a noncommercial, nonexclusive permanent easement to Emerson Fizer affecting approximately 0.017 acre of land on Tellico Reservoir in Loudon County, Tennessee, for the construction, operation, and maintenance of private water-use facilities (Tract No. XTELR-215RE).

E2. Grant of a permanent easement to the City of New Johnsonville, Tennessee, affecting approximately 14 acres of land on Kentucky Reservoir in Humphreys County, Tennessee, for a road (Tract No. XTGIR-937H).

E3. Grant of a permanent easement to the State of Tennessee for highway improvement purposes affecting approximately 0.16 acre of TVA land on Chickamauga Reservoir in Hamilton County, Tennessee (Tract No. XTCR-196H).

E4. Grant of a permanent easement to the Sevier Water Board, Inc., for the expansion of a water system intake site affecting approximately 1 acre of TVA land on Douglas Reservoir in Sevier County, Tennessee (Tract No. XTDR-34E).

F—Unclassified

1. Approval of file a condemnation case to acquire permanent easements and rights-of-way for transmission lines and a temporary right to enter upon land to survey and appraise for an electric transmission line at Madison West-South Jackson in Madison County, Tennessee, and the Rock Springs-Center Point transmission line in Whitfield County, Georgia.

Information Items

1. Amendments to the section 16, Variable Annuity Plan, and section 1(1) Definitions, of the Rules and Regulations of the TVA Retirement System.

2. Delegation of authority to the Vice President, Fuel Supply and Engineering Services, or such officer's designee, to modify Contract No. P97P01-196487 with Bowie Resources, Limited, resulting from renegotiation under a reopener provision.

3. Approval to implement results of negotiations with the Tennessee Valley Trades and Labor Council over Revised Project Agreements and Wage Rates for Trades and Labor Work Performed by TVA Contractors.

4. Public auction sale of approximately 6.17 acres of TVA's Nashville, Tennessee, Power Service Center site located in Davidson County, Tennessee (Tract No. XNTPSC-3).

5. Approval to file condemnation cases to acquire permanent easements and rights-of-way for the Weaver-Young Cane Transmission Line in Union County, Georgia.

6. Concurrence by the individual Board members of the Board of Directors for the issuance of TVA Power Bonds.

For more information: Please call TVA Public Relations at (423) 632-6000, Knoxville, Tennessee. Information is also available at TVA's Washington Office (202) 898-2999. People who plan to attend the meeting and have special needs should call (865) 632-6000.

Dated: July 12, 2000.
Edward S. Christenbury,
General Counsel and Secretary.

[FR Doc. 00-18129 Filed 7-13-00; 2:08 am]

BILLING CODE 8120-08-M